DEPARTMENT OF THE INTERIOR

Fish and Wildlife Service

Information Collection Renewal to be Submitted to the Office of Management and Budget (OMB) for Approval Under the Paperwork Reduction Act; OMB Control Number 1018-0103, Conservation Order for Control of Mid-Continent Light Geese, 50 CFR 21.60

AGENCY: Fish and Wildlife Service, Interior.

ACTION: Notice; request for comments.

SUMMARY: The Fish and Wildlife Service (We) will submit the collection of information described below to OMB for approval under the provisions of the Paperwork Reduction Act of 1995.

DATES: You must submit comments on or before January 14, 2005.

ADDRESSES: Send your comments on this information collection requirement to Hope Grey, Service Information Collection Clearance Officer, Fish and Wildlife Service, MS 222-ARLSQ, 4401 North Fairfax Drive, Arlington, VA 22203 (mail); Hope_Grey@fws.gov (e-mail); or (703) 358-2269 (fax).

FOR FURTHER INFORMATION CONTACT: To request a copy of the information collection requirements or explanatory material, contact Hope Grey at the addresses above or by telephone at (703) 358-2482.

SUPPLEMENTARY INFORMATION: The Office of Management and Budget regulations at 5 CFR 1320, which implement provisions of the Paperwork Reduction Act of 1995 (Public Law 104-13), require that interested members of the public and affected agencies have an opportunity to comment on information collection and recordkeeping activities (see 5 CFR 1320.8(d)). We plan to submit a request to OMB to renew approval of the collection of information for the Conservation Order for Control of Mid-Continent Light Geese. The current OMB Control Number for this information collection is 1018-0103, which expires March 31, 2005. We are requesting a 3-year term of approval for this information collection activity. Federal agencies may not conduct or sponsor and a person is not required to respond to a collection of information unless it displays a currently valid OMB control number.

The number of light geese (lesser snow and Ross' geese) in the mid-continent region has nearly quadrupled during the past several decades due to a decline in adult mortality and an increase in winter survival. Lesser snow and Ross' geese are referred to as light geese because of their light coloration as opposed to dark geese such as white-fronted or Canada Geese. Because of their feeding activity, light geese have become seriously injurious to their habitat as well as to habitat important to other migratory birds. This poses a serious threat to the short- and long-term health and status of some migratory bird populations. We believe that the number of light geese in the mid-continent region has exceeded long-term sustainable levels for their arctic and subarctic breeding habitats and that the populations must be reduced. 50 CFR 21 provides authority for the management of overabundant mid-continent light geese.

Light geese in the mid-continent region are separated into two different populations for management purposes. Lesser snow and Ross' geese that primarily migrate through North Dakota, South Dakota, Nebraska, Kansas, Iowa, and Missouri, and winter in Arkansas, Louisiana, Mississippi, and eastern, central, and southern Texas and other Gulf States are referred to as the mid-continent population of light geese. Lesser snow and Ross' geese that primarily migrate through Montana, Wyoming, and Colorado and winter in New Mexico, northwestern Texas, and Chihuahua, Mexico, are referred to as Western Central Flyway population of light geese.

States that participate in the light geese conservation order must inform and brief all participants on the requirements in 50 CFR 21.60 and conservation order conditions that apply to the implementation of light geese control measures. Participating States must collect information on the number of birds taken during control efforts, the methods by which they were taken, and the date on which they were taken. We use this information to administer the conservation order and, particularly, to monitor the effectiveness of control strategies and to protect migratory birds. Each participating State must submit an annual report by August 30 of each year summarizing the activities it conducted. We contacted some participating States to estimate the burden hours for this information collection.

Title of Collection: Conservation Order for Control of Mid-Continent Light Geese, 50 CFR 21.60.

OMB Control Number: 1018-0103.

Form Number: None.

Frequency of Collection: Annually.

Description of Respondents: States participating in the conservation order.

Total Annual Burden Hours: 1,776.

Total Annual Responses: 24.

We invite comments concerning this submission on (1) whether or not the collection of information is necessary for the proper performance of our migratory bird management functions, including whether or not the information will have practical utility; (2) the accuracy of our estimate of the burden of the collection of information; (3) ways to enhance the quality, utility, and clarity of the information to be collected; and (4) ways to minimize the burden of the collection of information on respondents. The information collections in this program are part of a system of record covered by the Privacy Act (5 U.S.C. 552(a)).

Our practice is to make comments, including names and home addresses of respondents, available for public review during regular business hours. Individual respondents may request that we withhold their home addresses from the record, which we will honor to the extent allowable by law. There may also be limited circumstances in which we would withhold a respondent's identity from the administrative record, as allowable by law. If you wish us to withhold your name and/or address, you must state this clearly at the beginning of your comment. We will not consider anonymous comments. We generally make all submissions from organizations or businesses and from individuals identifying themselves as representatives or officials of organizations or businesses available for public inspection in their entirety.

Dated: November 1, 2004.
Hope Grey,
Information Collection Clearance Officer, Fish and Wildlife Service.

[FR Doc. 04-25267 Filed 11-12-04; 8:45 am]

BILLING CODE 4310-55-P